DEPARTMENT OF THE INTERIOR

National Park Service

[NPS-IMR-ROMO-1210-6463;1526-0002-SZP]

Final Environmental Impact Statement for the Long Draw Reservoir Special Use Authorization, Rocky Mountain National Park

AGENCY: National Park Service, Interior.

ACTION: [Notice of Availability] Notice of Availability of a Record of Decision on the Final Environmental Impact Statement for the Long Draw Reservoir Special Use Authorization, Rocky Mountain National Park.

SUMMARY: Pursuant to the National Environmental Policy Act of 1969, 42 U.S.C. 4332(2)(C), the National Park Service announces the availability of the Record of Decision for the Long Draw Reservoir Special Use Authorization, Rocky Mountain National Park, Colorado. On September 17, 2010, the Regional Director, Intermountain Region approved the Record of Decision for the project. As soon as practicable, the National Park Service will begin to implement the Preferred Alternative contained in the FEIS issued on March 27, 2009.

FOR FURTHER INFORMATION CONTACT: Lawrence Gamble, Chief of Planning and Compliance, Rocky Mountain National Park, Estes Park, CO 80517, telephone 970-586-1320, e-mail larry_gamble@nps.gov; Dyce Gayton, Forest Planner, Arapaho and Roosevelt National Forests and Pawnee National Grassland, 2150 Centre Avenue, Building E, Fort Collins, Colorado 80526, telephone 970-295-6761, e-mail dgayton@fs.fed.us; or Tom Ford, Group Leader for Recreation, Planning and Design, 2150 Centre Avenue, Building E, Fort Collins, Colorado 80526, telephone 970-295-6610, e-mail tford01@fs.fed.us.

SUPPLEMENTARY INFORMATION: The United States Department of Agriculture, Forest Service, is the lead agency for this project and was responsible for preparation of the EIS because Long Draw Reservoir is located on National Forest System lands. The NPS is a cooperating agency on this project because the operations of Long Draw Reservoir affect lands within Rocky Mountain National Park managed by the NPS, and two alternatives considered in the EIS propose actions within the park. A total of four alternatives were considered: A no-action alternative and three action alternatives.

With the Record of Decision, the National Park Service approves the implementation of Alternative 3 within the park. This decision is being made in conjunction with the Forest Service's decision to apply terms and conditions to the 30-year authorization for Long Draw Reservoir and is necessary for the Forest Service to implement the selected alternative. The National Park Service is approving implementation of native greenback cutthroat trout restoration in the headwaters of the Cache la Poudre River within Rocky Mountain National Park by the Forest Service, Water Supply and Storage Company of Fort Collins, Colorado, and their project partners, with oversight provided by the National Park Service. In addition to the activities associated with implementation of the terms and conditions for the Long Draw reservoir authorization, the NPS will implement native fish restoration in Cascade Creek.

The Record of Decision includes a description of the background of the project; a statement of the decision made including key actions and mitigating measures/monitoring to minimize environmental harm; the basis for the decision; an overview of public involvement and agency consultation in the decision-making process; a description of other alternatives considered; a description of the environmentally preferred alternative; and a findings on impairment of park resources and values.

Copies of the Record of Decision may be obtained from the contact listed above or online at http://parkplanning.nps.gov/romo.

Dated: March 1, 2011.
John Wessels,
Regional Director, Intermountain Region, National Park Service.

[FR Doc. 2011-9178 Filed 4-14-11; 8:45 am]

BILLING CODE P